DEPARTMENT OF HEALTH AND HUMAN SERVICES

Centers for Disease Control and Prevention

[Docket Number CDC-2018-0085, NIOSH-319]

Partnership Opportunity To List in a Public Database (PPE-Info) Appropriate Personnel Protective Equipment Products That Protect Workers Against Fentanyl Exposure

AGENCY: National Institute for Occupational Safety and Health (NIOSH) of the Centers for Disease Control and Prevention (CDC), Department of Health and Human Services (HHS).

ACTION: Notice.

SUMMARY: The National Institute for Occupational Safety and Health of the Centers for Disease Control and Prevention announces the opportunity for manufacturers to participate in an evolution of the PPE-Info database to include products identified as protection against fentanyl exposure. To view the notice and related materials, visit https://www.regulations.gov and enter CDC-2018-0085 in the search field and click “Search.”

DATES: Electronic or written comments expressing willingness to participate must be received by November 19, 2018. Other types of comments are not being requested. Product information is not required to be submitted in this timeframe.

ADDRESSES: You may submit comments, identified by CDC-2018-0085; NIOSH-319, by any of the following methods:

• Federal eRulemaking Portal: https://www.regulations.gov Follow the instructions for submitting comments.

• Mail: National Institute for Occupational Safety and Health, NIOSH Docket Office, 1090 Tusculum Avenue, MS C-34, Cincinnati, Ohio 45226-1998.

Instructions: All information received in response to this notice must include the agency name and docket number [CDC-2018-0085; NIOSH-319]. All relevant comments received will be posted without change to https://www.regulations.gov, including any personal information provided. For access to the docket to read background documents or comments received, go to https://www.regulations.gov. All information received in response to this notice will also be available for public examination and copying at the NIOSH Docket Office, 1150 Tusculum Avenue, Room 155, Cincinnati, OH 45226-1998.

FOR FURTHER INFORMATION CONTACT: ppeconcerns@cdc.gov, NIOSH, National Personal Protective Technology Laboratory, Office of the Director, 626 Cochrans Mill Road, Building 141, Pittsburgh, PA, 15236, 1-888-654-2294 (a toll free number).

SUPPLEMENTARY INFORMATION: PPE-Info is a collection of national personal protective equipment (PPE) information. The database provides PPE standards setting organizations, manufacturers, suppliers, purchasers, and end users with the ability to conduct general- or advanced-criteria searches of (1) relevant standards, (2) associated product types, (3) target occupational groups, (4) basic conformity assessment specifications, and (5) additional pertinent information. PPE-Info is the only U.S. database that is maintained with comprehensive information about national PPE standards and select product information. Using this collection of information, PPE-Info currently offers the following capabilities:

• Identification of PPE standards, searchable by PPE type, hazard category, Standards Development Organization, Standard Occupational Classification (SOC) code, standard type, and standard status, with basic- and advanced-search functions;

• A PPE-Selection Logic Tool for potential Ebola exposure; and

• Identification of 3rd party testing laboratories whose scope of accreditation includes testing to the identified standard.

Background: In 2011 NIOSH began an effort to address the recommendations issued by the Institute of Medicine (IOM) in its report “Certifying Personal Protective Technologies: Improving Worker Safety,” which recommended that “NIOSH NPPTL should continue and expand its role in PPT [personal protective technology] conformity assessment. Specifically, NPPTL should expand its role and become the primary clearinghouse for reliable information on non-respirator PPT.” The PPE-Info Database is a key element designed to address this IOM recommendation. First developed in 2012, the PPE-Info website is available for public use at https://wwwn.cdc.gov/PPEinfo. In addition, there is a tutorial for users on the features and use of the current PPE-Info database at https://niosh-connect.adobeconnect.com/p7o6sz3xxt5/.

Information Needs: NIOSH is expanding the PPE-Info Database as a tool to connect existing protection standards with relevant PPE information for protection against fentanyl and its analogues. This new aspect of the NIOSH PPE-Info Database will allow end users (e.g., emergency responders) to find products (e.g., gloves and coveralls) that are compliant (as confirmed by manufacturer) with the protection standards outlined by the CDC Fentanyl PPE Guidance at https://www.cdc.gov/niosh/topics/fentanyl/risk.html. The objective is to include information about all PPE types associated with the CDC Fentanyl PPE Guidance as the information becomes available. Since there is no single source for this information, NIOSH is requesting that manufacturers provide CDC with their product information directly for input into the database to provide end users with Fentanyl PPE selection options. NIOSH will develop individual Memoranda of Understanding (MOU) with PPE manufacturers to facilitate the sharing of product information. The primary focus of the collaboration with an individual manufacturer will be (1) the receipt of manufacturer product information to be collected and displayed in the NIOSH PPE-Info Database; and (2) the verification, by the manufacturer, of product information displayed in the NIOSH PPE-Info Database. The purpose of these collaborations is to obtain information on all currently available PPE types that comply with the CDC Fentanyl PPE Guidance.

References

Cohen HJ, Liverman CT [2010]. Certifying Personal Protective Technologies: Improving Worker Safety. https://www.nap.edu/catalog/12962/certifying-personal-protective-technologies-improving-worker-safety.

Dated: October 15, 2018.
Frank J Hearl,
Chief of Staff, National Institute for Occupational Safety and Health, Centers for Disease Control and Prevention.

[FR Doc. 2018-22721 Filed 10-17-18; 8:45 am]

BILLING CODE 4163-19-P